DEPARTMENT OF THE INTERIOR

National Park Service

Notice of Inventory Completion for Native American Human Remains and Associated Funerary Objects in the Possession of the U.S. Department of the Interior, National Park Service, Natchez Trace Parkway, Tupelo, MS; Correction

AGENCY: National Park Service, Interior.

ACTION: Notice; correction.

Notice is here given in accordance with the Native American Graves Protection and Repatriation Act (NAGPRA), 25 U.S.C. 3003, of the completion of an inventory of human remains and associated funerary objects in the possession of the U.S. Department of the Interior, National Park Service, Natchez Trace Parkway, Tupelo, MS. The human remains and cultural items were removed from archeological sites near Tupelo, MS.

This notice is published as part of the National Park Service's administrative responsibilities under NAGPRA, 25 U.S.C. 3003 (d)(3). The determinations in this notice are the sole responsibility of the superintendent of the Natchez Trace Parkway.

This notice corrects the number and types of associated funerary objects that were recovered from three of the five archeological sites reported in a notice of inventory completion published in the Federal Register on January 8, 2002, as well as the total number of associated funerary objects for the five sites. A review of Natchez Trace Parkway collections resulted in the identification of 27 additional associated funerary objects from the Alton's Chickasaw Village site, 1 incorrectly identified associated funerary object from the Ackia Village site, and 614 additional associated funerary objects from the Bynum Mounds site, all culturally affiliated with the same tribe as described in the original notice.

In the Federal Register of January 8, 2002, FR Doc. 02¯385, pages 909 to 910, paragraph numbers 4, 5, 6, 8, and 12 are corrected by substituting the following paragraphs:

Paragraph 4 is corrected by substituting the following paragraph:

The 50 human remains and 5,894 associated funerary objects described below were recovered from 5 different sites.

Paragraph 5 is corrected by substituting the following paragraph:

In 1939, human remains representing 13 individuals were recovered from Alton's Chickasaw Village during a legally authorized National Park Service excavation to gather information on historic Chickasaw sites. No known individuals were identified. The 2,201 associated funerary objects are 2,132 glass beads and 1 bag of beads, 55 kettle fragments, 2 brass buckles, 2 ear plugs, 2 boxes of wood, 2 boxes of cloth fragments, 1 animal bone fragment, 1 bell, 1 iron hoe, 1 metal spring, and 1 box of cane fragments.

Paragraph 6 is corrected by substituting the following paragraph:

In 1940, human remains representing 26 individuals were recovered from the Ackia Village site during a legally authorized National Park Service excavation to gather information on historic Chickasaw sites. No known individuals were identified. The 88 associated funerary objects are 28 musket balls, 16 metal spring fragments and 1 whole metal spring, 12 buttons, 7 pieces of worked bone, 5 gunflints, 4 flake tools, 2 projectile points, 2 knife fragments, 2 bracelets, 1 glass bead, 1 shell bead, 1 brass bell, 1 nail, 1 box of metal fragments, 1 stone biface, 1 scraper, 1 cup, and 1 tobacco pipe.

Paragraph 8 is corrected by substituting the following paragraph:

In 1947 and 1948, human remains representing seven individuals were recovered from the Bynum Mounds site during a legally authorized project. No known individuals were identified. The 2,628 associated funerary objects are 2,522 glass beads, 27 metal fragments, 9 silver spoons, 9 flintlock fragments, 4 cloth fragments and 2 boxes of cloth fragments, 5 metal files, 4 metal knives, 5 wire fragments, 4 copper earrings, 4 ornaments, 4 bells, 3 metal cups, 2 shell gorgets, 2 musket balls, 2 rivets, 2 blades, 2 utensils, 1 tobacco pipe, 1 gunflint, 1 whetstone, 1 silver brooch, 1 silver crown, 1 metal spike, 1 metal spring, 1 button, 1 snuffbox, 1 powder flask, 1 ground stone, 1 polishing stone, 1 basket fragment, 1 worked antler, 1 metal screw, and 1 bag of unidentified objects.

Paragraph 12 is corrected by substituting the following paragraph:

Based on the above¯mentioned information, the superintendent of Natchez Trace Parkway has determined that, pursuant to 43 CFR 10.2 (d)(1), the human remains listed above represent the physical remains of 50 individuals of Native American ancestry. The superintendent of Natchez Trace Parkway also has determined that, pursuant to 43 CFR 10.2 (d)(2), the 5,894 objects listed above are reasonably believed to have been placed with or near individual human remains at the time of death or later as part of a death rite or ceremony. Lastly, the superintendent of Natchez Trace Parkway has determined that, pursuant to 43 CFR 10.2 (e), there is a relationship of shared group identity that can be reasonably traced between the Native American human remains and associated funerary objects recovered from Ackia Village, Alton's Chickasaw Village, Beldin's Ridge, the historic component of the Bynum Mounds site, and the Futorian Furniture Company site, and the Chickasaw Nation, Oklahoma.

Representatives of any other Indian tribe that believes itself to be culturally affiliated with the associated funerary objects should contact Wendell Simpson, Superintendent, Natchez Trace Parkway, 2680 Natchez Trace Parkway, Tupelo, MS 38804, telephone (662) 680¯4005, before May 2, 2005. Repatriation of the associated funerary objects to the Chickasaw Nation, Oklahoma may proceed after that date if no additional claimants come forward.

Natchez Trace Parkway is responsible for notifying the Absentee¯Shawnee Tribe of Indians of Oklahoma; Alabama¯Coushatta Tribes of Texas; Alabama¯Quassarte Tribal Town, Oklahoma; Cherokee Nation, Oklahoma; Chickasaw Nation, Oklahoma; Chitimacha Tribe of Louisiana; Choctaw Nation of Oklahoma; Eastern Band of Cherokee Indians of North Carolina; Eastern Shawnee Tribe of Oklahoma; Jena Band of Choctaw Indians, Louisiana; Kialegee Tribal Town, Oklahoma; Miccosukee Tribe of Indians of Florida; Mississippi Band of Choctaw Indians, Mississippi; Muscogee (Creek) Nation, Oklahoma; Poarch Band of Creek Indians of Alabama; Seminole Nation of Oklahoma; Seminole Tribe of Florida, Dania, Big Cypress, Brighton, Hollywood & Tampa Reservations; Shawnee Tribe, Oklahoma; Thlopthlocco Tribal Town, Oklahoma; Tunica¯Biloxi Indian Tribe of Louisiana; and United Keetoowah Band of Cherokee Indians in Oklahoma that this notice has been published.

Sherry Hutt,
Manager, National NAGPRA Program.

[FR Doc. 05-6462 Filed 3-31-05; 8:45 am]

BILLING CODE 4312-50-S